DEPARTMENT OF ENERGY

Federal Energy Regulatory Commission

[Project No. 12615-001]

Alaska Power & Telephone Company; Notice of Intent To File License Application, Filing of Pre-Application Document, and Approving Use of the Alternative Licensing Procedures

May 13, 2008.

a. Type of Filing: Notice of Intent to File License Application, Filing of Pre-Application Document, and Approving Use of the Alternative Licensing Procedures.

b. Project No.: 12615-001.

c. Dated Filed: March 10, 2008.

d. Submitted by: Alaska Power & Telephone Company.

e. Name of Project: Soule River Hydroelectric Project.

f. Location: On the Soule River, a tributary to the Portland Canal, approximately 9 miles south of Hyder, Alaska. The project would occupy 1,112 acres of United States lands administered by the U.S. Forest Service.

g. Filed Pursuant to: 18 CFR 5.3 of the Commission's regulations.

h. Applicant Contact: Glen D. Martin, Project Manager, Alaska Power & Telephone Company, 193 Otto Street, P.O. Box 3222, Port Townsend, WA 98368; (360) 385-1733 extension 122; e-mail at glen.m@aptalaska.com.

i. FERC Contact: Matt Cutlip at (503) 552-2762; or e-mail at matt.cutlip@ferc.gov.

j. Alaska Power & Telephone Company filed its request to use the Alternative Licensing Procedures on March 10, 2008. Alaska Power & Telephone Company provided public notice of its request on March 7, 2008. In a letter dated May 5, 2008, the Director, Division of Hydropower Licensing approved Alaska Power & Telephone Company's request to use the Alternative Licensing Procedures.

k. With this notice, we are initiating informal consultation with: (a) The U.S. Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR section 600.920; and (c) the Alaska State Historic Preservation Officer, as required by section 106, National Historical Preservation Act, and the implementing regulations of the Advisory Council on Historic Preservation at 36 CFR 800.2.

l. With this notice, we are designating Alaska Power & Telephone Company as the Commission's non-federal representative for carrying out informal consultation, pursuant to section 7 of the Endangered Species Act, section 305 of the Magnuson-Stevens Fishery Conservation and Management Act, and section 106 of the National Historic Preservation Act.

m. Alaska Power & Telephone Company filed a Pre-Application Document (PAD; including a proposed process plan and schedule) with the Commission, pursuant to 18 CFR 5.6 of the Commission's regulations.

n. A copy of the PAD is available for review at the Commission in the Public Reference Room or may be viewed on the Commission's Web site at http://www.ferc.gov using the “eLibrary” link. Enter the docket number excluding the last three digits in the docket number field to access the document. For assistance, contact FERC Online Support at FERCONlineSupport@ferc.gov or toll free at 1-866-208-3676, or for TTY, (202) 502-8659. A copy is also available for inspection and reproduction at the address in item h.

o. Register online at http://www.ferc.gov/docs-filing/esubscription.asp to be notified via e-mail of new filings and issuances related to this or other pending projects. For assistance, contact FERC Online Support.

Kimberly D. Bose,
Secretary.

[FR Doc. E8-11202 Filed 5-19-08; 8:45 am]

BILLING CODE 6717-01-P